DEPARTMENT OF JUSTICE

Antitrust Division

Notice Pursuant to the National Cooperative Research and Production Act of 1993—Gap Year Association (Formerly Amercian Gap Association)

Notice is hereby given that, on January 17, 2018, pursuant to Section 6(a) of the National Cooperative Research and Production Act of 1993, 15 U.S.C. 4301 et seq. (“the Act”), American Gap Association (“AGA”) has filed written notifications simultaneously with the Attorney General and the Federal Trade Commission disclosing additions or changes to its standards development activities. The notifications were filed for the purpose of extending the Act's provisions limiting the recovery of antitrust plaintiffs to actual damages under specified circumstances. American Gap Association (“AGA”) has changed its name to Gap Year Association (“GYA”). Specifically, GYA are near ratifying the 2018 version of Gap Year Standards; expanded the Board of Directors; expanded its six organizational committees, including the Standards & Accreditation Committee; expanded its membership offerings; and filed a new d/b/a as the Gap Year Association, for the 501(c)(3) American Gap Foundation to better streamline its activities and further support the benefits of all gap years in the U.S. and internationally.

On June 6, 2012, GYA filed its original notification pursuant to Section 6(a) of the Act. The Department of Justice published a notice in the Federal Register pursuant to Section 6(b) of the Act on July 6, 2012 (77 FR 40085).

The last notification was filed with the Department on December 23, 2015. A notice was published in the Federal Register pursuant to Section 6(b) of the Act on January 22, 2016 (81 FR 3821).

Patricia A. Brink,
Director of Civil Enforcement, Antitrust Division.

[FR Doc. 2018-02802 Filed 2-9-18; 8:45 am]

BILLING CODE 4410-11-P